NUCLEAR REGULATORY COMMISSION

[Docket Nos. 50-334 and 50-412]

Pennsylvania Power Company, Ohio Edison Company, The Cleveland Electric Illuminating Company, The Toledo Edison Company, FirstEnergy Nuclear Operating Company; Notice of Issuance of Amendment to Facility Operating License

The U.S. Nuclear Regulatory Commission (Commission) has issued Amendment Nos. 243 and 122 to Facility Operating License Nos. DPR-66 and NPF-73, respectively, issued to FirstEnergy Nuclear Operating Company, et. al., (the licensee), which revised the Technical Specifications (TSs) and Operating Licenses for operation of the Beaver Valley Power Station, Unit Nos. 1 and 2 (BVPS-1 and 2) located in Shippingport, Pennsylvania. The amendment is effective as of the date of issuance.

The amendment modified the TSs and OLs to reflect an increased maximum steady-state core power level from 2652 megawatts thermal (MWt) to 2689 MWt, an increase of approximately 1.4 percent. These increases are facilitated by the utilization of the Caldon Leading Edge Flowmeter for feedwater flow measurements.

The application for the amendment complies with the standards and requirements of the Atomic Energy Act of 1954, as amended (the Act), and the Commission's rules and regulations. The Commission has made appropriate findings as required by the Act and the Commission's rules and regulations in 10 CFR chapter I, which are set forth in the license amendment. Notice of Consideration of Issuance of Amendment to Facility Operating License and Opportunity for a Hearing in connection with this action was published in the Federal Register on June 19, 2001 (66 FR 32963). No request for a hearing or petition for leave to intervene was filed following this notice.

The Commission has prepared an Environmental Assessment related to the portion of the action related to the power uprate and has determined not to prepare an environmental impact statement. Based upon the environmental assessment, the Commission has concluded that the issuance of the amendment will not have a significant effect on the quality of the human environment (66 FR 47699).

For further details with respect to the action, see (1) The application for amendment dated January 18, 2001 (Agencywide Documents Access and Management System [ADAMS] Accession No. ML010230096), as supplemented by letters dated February 20 (ADAMS Accession No. ML010540305), April 12 (ADAMS Accession No. ML011130105), May 7 (ADAMS Accession No. ML011340076), May 18 (ADAMS Accession No. ML011440046), June 9 (3 letters) (ADAMS Accession Nos. ML011640192, ML011640189, and ML011640086), June 26 (ADAMS Accession No. ML011840215), June 29 (ADAMS Accession No. ML011870434), August 21, (ADAMS Accession No. ML012400228), and September 5, 2001 (ADAMS Accession No. ML012550393), (2) Amendment Nos. 243 and 122 to License Nos. DPR-66 and NPF-73, respectively, (3) the Commission's related Safety Evaluation, and (4) the Commission's Environmental Assessment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index.html. Persons who do not have access to ADAMS or who encounter problems in accessing the documents located in ADAMS should contact the NRC PDR Reference staff by telephone at 1-800-397-4209, or 301-415-4737, or by e-mail at pdr@nrc.gov.

Dated at Rockville, Maryland, this 24th day of September 2001.
For the Nuclear Regulatory Commission.
Lawrence J. Burkhart,
Project Manager, Section 1, Project Directorate I, Division of Licensing Project Management, Office of Nuclear Reactor Regulation.

[FR Doc. 01-24496 Filed 9-28-01; 8:45 am]

BILLING CODE 7590-01-P